DEPARTMENT OF COMMERCE

Foreign-Trade Zones Board

[B-05-2020]

Foreign-Trade Zone (FTZ) 158—Jackson, Mississippi; Notification of Proposed Production Activity; Traxys Cometals USA, LLC (Manganese and Aluminum Alloying Agents); Burnsville, Mississippi

Traxys Cometals USA, LLC (Traxys Cometals) submitted a notification of proposed production activity to the FTZ Board for its facility in Burnsville, Mississippi. The notification conforming to the requirements of the regulations of the FTZ Board (15 CFR 400.22) was received on January 30, 2020.

Traxys Cometals already has authority to produce high-grade manganese and aluminum alloying agents within FTZ 158. The current request would add foreign status materials/components to the scope of authority. Pursuant to 15 CFR 400.14(b), additional FTZ authority would be limited to the specific foreign-status materials/components described in the submitted notification (as described below) and subsequently authorized by the FTZ Board.

Production under FTZ procedures could exempt Traxys Cometals from customs duty payments on the foreign-status materials/components used in export production. On its domestic sales, for the foreign-status materials/components noted below, Traxys Cometals would be able to choose the duty rate during customs entry procedures that applies to high-grade manganese and aluminum alloying agents (duty rate ranges from 1.4% to 14%). Traxys Cometals would be able to avoid duty on foreign-status components which become scrap/waste. Customs duties also could possibly be deferred or reduced on foreign-status production equipment.

The materials/components sourced from abroad include low-carbon and medium-carbon ferromanganese powder (duty rate ranges from 1.4% to 2.3%). The request indicate that low-carbon and medium-carbon ferromanganese powder are subject to special duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is March 16, 2020.

A copy of the notification will be available for public inspection in the “Reading Room” section of the Board's website, which is accessible via www.trade.gov/ftz.

For further information, contact Christopher Wedderburn at Chris.Wedderburn@trade.gov or (202) 482-1963.

Dated: January 30, 2020.
Andrew McGilvray,
Executive Secretary.

[FR Doc. 2020-02265 Filed 2-4-20; 8:45 am]

BILLING CODE 3510-DS-P